DEPARTMENT OF COMMERCE

Bureau of Industry and Security

[Docket No. 06-BIS-06]

Action Affecting Export Privileges; Eduard Mendelevich Yamnik; In the Matter of Eduard Mendelevich Yamnik, 7133 Valley View Road, Edina, MN 55439, Respondent; Order Relating to Eduard Mendelevich Yamnik

The Bureau of Industry and Security, U.S. Department of Commerce (“BIS”) has initiated an administrative proceeding against Eduard Mendelevich Yamnik (“Yamnik”) pursuant to Section 766.3 of the Export Administration Regulations (currently codified at 15 CFR parts 730-774 (2006)) (“Regulations”),¹ and Section 13(c) of the Export Administration Act of 1979, as amended (50 U.S.C. app. §§ 2401-2420 (2000)) (“Act”),² through issuance of a charging letter to Yamnik that alleged that Yamnik committed two violations of the Regulations. Specifically, the charges are:

¹ The violations charged occurred during 2001. The Regulations governing the violations at tissue are found in the 2001 version of the Code of Federal Regulations (15 CFR parts 730-774 (2001)). The 2006 Regulations establish the procedures that apply to this matter.

² Since August 21, 2001, the Act has been in lapse and the President, through Executive Order 13222 of August 17, 2001 (3 CFR, 2001 Comp. 783 (2002)), as extended by the Notice of August 2, 2005 (70 FR 45273, August 5, 2005), has continued the Regulations in effect under the International Emergency Economic Powers Act (50 U.S.C. 1701-1706 (2000)).

1. One violation of 15 CFR 764.2(a)—Exporting an item subject to the Regulations without a license: On or about January 6, 2001, Yamnik engaged in conduct prohibited by the Regulations when he exported fingerprint powders classified under Export Control Classification Number (“ECCN”) 1A985 on the Commerce Control List (“CCL”) to Belarus without the license required by the U.S. Department of Commerce. Under Section 742.7 of the Regulations, a BIS export license was required for this export, but no such license was obtained.

2. One violation of 15 CFR 764.2(e)—Transfer of an item with knowledge that a violation would subsequently occur: One or about January 6, 2001, Yamnik transferred fingerprint powders classified under ECCN 1A985 on the CCL to Belarus with knowledge that a violation of the Regulations would occur in connection with the items. Specifically, Yamnik transferred the fingerprint powders to Belarus without the license required by the U.S. Department of Commerce despite knowing that such license was required under the Regulations, and that such license would not be obtained. Yamnik transferred the items with knowledge that the U.S. Department of Commerce has notified Edsons that Edson's application for a license to export the items had been denied.

Whereas, BIS and Yamnik have entered into a Settlement Agreement pursuant to Section 766.18(b) of the Regulations whereby they agreed to settle this matter in accordance with the terms and conditions set forth therein, and

Whereas I have approved of the terms of such Settlement Agreement;

It is therefore ordered:

First, for a period of ten years from the date on which this Order is published in the Federal Register, Eduard Mendelevich Yamnik, 7133 Valley View Road, Edina, MN 55439 and when acting for or on behalf of Yamnik, his representatives, agents, or employees (“Denied Person”) may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Second, that no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtained from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that, to prevent evasion of this Order, BIS, after notice and opportunity for comment as provided in Section 766.23 of the Regulations, may make any person, firm, corporation, or business organization related to Yamnik by affiliation, ownership, control, or position of responsibility in the conduct of trade or related services subject to the provisions of this Order.

Fourth, that this Order does not prohibit any export, reexport, or other transaction subject to the Regulations where the only items involved that are subject to the Regulations are the foreign-produced direct product of U.S.-origin technology.

Fifth, that the charging letter, the Settlement Agreement, this Order, and the record of this case as defined by Section 766.20 of the Regulations shall be made available to the public.

Sixth, that the administrative law judge shall be notified that this case is withdrawn from adjudication.

This Order, which constitutes the final agency action in this matter, is effective upon publication in the Federal Register.

Entered this 5th day of June, 2006.
Darryl W. Jackson,
Assistant Secretary of Commerce for Export Enforcement.

[FR Doc. 06-5282 Filed 6-9-06; 8:45 am]

BILLING CODE 3510-DT-M